DEPARTMENT OF COMMERCE

International Trade Administration

[A-580-885]

Phosphor Copper From the Republic of Korea: Continuation of Antidumping Duty Order

AGENCY: Enforcement and Compliance, International Trade Administration, Department of Commerce.

SUMMARY: As a result of the determinations by the U.S. Department of Commerce (Commerce) and the U.S. International Trade Commission (ITC) that revocation of the antidumping duty (AD) order on phosphor copper from the Republic of Korea (Korea) would likely lead to continuation or recurrence of dumping and material injury to an industry in the United States, Commerce is publishing a notice of continuation of the AD order.

DATES: Applicable November 1, 2022.

FOR FURTHER INFORMATION CONTACT: Jolanta Lawska, AD/CVD Operations, Office III, Enforcement and Compliance, International Trade Administration, U.S. Department of Commerce, 1401 Constitution Avenue NW, Washington, DC 20230; telephone: (202) 482- 8362.

SUPPLEMENTARY INFORMATION:

Background

On April 24, 2017, Commerce published the AD order on phosphor copper from Korea.¹ On March 1, 2022, the ITC instituted,² and Commerce initiated, the first sunset review of the Order, pursuant to section 751(c) of the Tariff Act of 1930, as amended (the Act).³ As a result of its review, Commerce determined that revocation of the Order would likely lead to continuation or recurrence of dumping and, therefore, notified the ITC of the magnitude of the margin likely to prevail should the Order be revoked.⁴

¹ See Phosphor Copper from the Republic of Korea: Antidumping Duty Order, 82 FR 18893 (April 24, 2017) (Order).

² See Phosphor Copper from Korea; Institution of a Five-Year Review, 87 FR 11467 (March 1, 2022).

³ See Initiation of Five-Year (Sunset) Reviews, 87 FR 11416 (March 1, 2022) (Sunset Initiation). In the Sunset Initiation, Commerce inadvertently listed the wrong case number for Order. Commerce noted the correct case number, A-580-885, in a subsequent sunset initiation notice. See Initiation of Five-Year (Sunset) Reviews, 87 FR 19069 (April 1, 2022).

⁴ See Phosphor Copper from the Republic of Korea: Final Results of the First Expedited Sunset Review of the Antidumping Duty Order, 87 FR 40502 (July 7, 2022) (Expedited Final Results), and accompanying Issues and Decision Memorandum.

On October 25, 2022, the ITC published its determination, pursuant to sections 751(c) and 752(a) of the Act, that revocation of the Order would likely lead to continuation or recurrence of material injury to an industry in the United States within a reasonably foreseeable time.⁵

⁵ See Phosphor Copper from Korea, 87 FR 64522 (October 25, 2022).

Scope of the Order

The merchandise covered by the Order is master alloys ⁶ of copper containing between five percent and 17 percent phosphorus by nominal weight, regardless of form (including but not limited to shot, pellet, waffle, ingot, or nugget), and regardless of size or weight. Subject merchandise consists predominantly of copper (by weight), and may contain other elements, including but not limited to iron (Fe), lead (Pb), or tin (Sn), in small amounts (up to one percent by nominal weight). Phosphor copper is frequently produced to JIS H2501 and ASTM B-644, Alloy 3A standards or higher; however, merchandise covered by the Order includes all phosphor copper, regardless of whether the merchandise meets, fails to meet, or exceeds these standards.

⁶ A “master alloy” is a base metal, such as copper, to which a relatively high percentage of one or two other elements is added.

Merchandise covered by the Order is currently classified in the Harmonized Tariff Schedule of the United States (HTSUS) under subheading 7405.00.1000. This HTSUS subheading is provided for convenience and customs purposes; the written description of the scope of the Order is dispositive.

Continuation of the Order

As a result of the determinations by Commerce and the ITC that revocation of the Order would likely lead to a continuation or a recurrence of dumping, as well as material injury to an industry in the United States, pursuant to section 751(d)(2) of the Act, Commerce hereby orders the continuation of the Order. U.S. Customs and Border Protection will continue to collect AD cash deposits at the rates in effect at the time of entry for all imports of subject merchandise. The effective date of the continuation of the Order will be the date of publication in the Federal Register of this notice of continuation. Pursuant to section 751(c)(2) of the Act, Commerce intends to initiate the next five-year review of the Order not later than 30 days prior to the fifth anniversary of the effective date of continuation.

Administrative Protective Order

This notice serves as the only reminder to parties subject to an administrative protective order (APO) of their responsibility concerning the disposition of proprietary information disclosed under APO in accordance with 19 CFR 351.305(a)(3), which continues to govern business proprietary information in this segment of the proceeding. Timely notification of return/destruction of APO materials or conversion to judicial protective order is hereby requested. Failure to comply with the regulations and terms of the APO is a sanctionable violation.

Notification to Interested Parties

This five-year sunset review and this notice are in accordance with section 751(c) of the Act and published in accordance with section 777(i)(1) of the Act and 19 CFR 351.218(f)(4).

Dated: October 26, 2022.
Lisa W. Wang,
Assistant Secretary for Enforcement and Compliance.

[FR Doc. 2022-23742 Filed 10-31-22; 8:45 am]

BILLING CODE 3510-DS-P